DEPARTMENT OF TRANSPORTATION

Surface Transportation Board

[STB Finance Docket No. 34068]

Twin Cities & Western Railroad Company, Douglas M. Head, Charles H. Clay, Kent P. Shoemaker and William F. Drusch—Continuance in Control Exemption—Minnesota Prairie Line, Inc.

AGENCY: Surface Transportation Board.

ACTION: Notice of exemption.

SUMMARY: The Board grants an exemption under 49 U.S.C. 10502, from the prior approval requirements of 49 U.S.C. 11323-25, for Twin Cities & Western Railroad Company, a Class III rail common carrier, and Douglas M. Head, Charles H. Clay, Kent P. Shoemaker and William F. Drusch, all noncarrier individuals (collectively Petitioners) to continue in control of Minnesota Prairie Line, Inc.

DATES: This exemption will be effective July 6, 2002. Petitions to stay must be filed by June 21, 2002, and petitions to reopen must be filed by July 1, 2002.

ADDRESSES: Send an original and 10 copies of pleadings referring to STB Finance Docket No. 34068 to: Surface Transportation Board, Case Control Unit, 1925 K Street, NW, Washington, DC 20423-0001. In addition, send one copy of pleadings to petitioners' representative: Jo A. DeRoche, Weiner Brodsky Sidman Kider PC, 1300 19th Street, NW Fifth Floor, Washington, DC 20036-1609.

FOR FURTHER INFORMATION CONTACT: Beryl Gordon, (202) 565-1600. [TDD for the hearing impaired: 1-800-877-8339.]

SUPPLEMENTARY INFORMATION: Additional information is contained in the Board's decision. To purchase a copy of the full decision, write to, call, or pick up in person from: Dā 2 Dā Legal Copy Service, 1925 K Street, NW., Suite 405, Washington, DC 20006. Telephone: (202) 293-7776. [Assistance for the hearing impaired is available through TDD Services 1-800-877-8339.]

Board decisions and notices are available on our Web site at “WWW.STB.DOT.GOV.”

Decided: May 30, 2002.
By the Board, Chairman Morgan and Vice Chairman Burkes.
Vernon A. Williams,
Secretary.

[FR Doc. 02-14213 Filed 6-5-02; 8:45 am]

BILLING CODE 4915-00-P